DEPARTMENT OF COMMERCE

International Trade Administration

[A-469-815]

Finished Carbon Steel Flanges From Spain: Final Results of Antidumping Duty Administrative Review; 2017-2018

AGENCY: Enforcement and Compliance, International Trade Administration, Department of Commerce.

SUMMARY: The Department of Commerce (Commerce) finds that sales of finished carbon steel flanges (flanges) from Spain were made at less than normal value during the period of review (POR), February 8, 2017 through May 31, 2018.

DATES: Applicable February 12, 2020.

FOR FURTHER INFORMATION CONTACT: Marc Castillo or Mark Flessner, AD/CVD Operations, Office VI, Enforcement and Compliance, International Trade Administration, Department of Commerce, 1401 Constitution Avenue NW, Washington, DC 20230; telephone: (202) 482-0519 or (202) 482-6312, respectively.

SUPPLEMENTARY INFORMATION:

Background

Commerce published the initiation of this administrative review on August 10, 2018.¹ These final results cover six companies for which an administrative review was initiated and not rescinded. On August 13, 2019, Commerce published the Preliminary Results of this administrative review and invited interested parties to comment on the Preliminary Results.² On November 26, 2019, Weldbend Corporation and Boltex Manufacturing Co., L.P. (collectively, the petitioners) submitted their case brief.³ On the same day, ULMA submitted its case brief.⁴ On December 9, 2019, the petitioners submitted their rebuttal brief.⁵ Also on December 9, 2019, ULMA submitted its rebuttal brief.⁶ No other party submitted case or rebuttal briefs.

¹ See Initiation of Antidumping and Countervailing Duty Administrative Reviews, 83 FR 39688 (August 10, 2018) (Initiation Notice).

² See Finished Carbon Steel Flanges from Spain: Preliminary Results of Antidumping Duty Administrative Review; 2017-2018, 84 FR 40026 (August 13, 2019) (Preliminary Results).

³ See Petitioners' Letter, “Finished Carbon Steel Flanges from Spain: Case Brief,” dated November 26, 2019.

⁴ See ULMA's Letter, “ULMA FORJA's Case Brief: Finished Carbon Steel Flanges from Spain POR 1,” dated November 26, 2019.

⁵ See Petitioners' Letter, “Finished Carbon Steel Flanges from Spain: Rebuttal Brief,” dated December 9, 2019.

⁶ See ULMA's Letter, “ULMA FORJA's Reply Brief: Finished Carbon Steel Flanges from Spain POR 1,” dated December 9, 2019.

Commerce exercised its discretion to toll all deadlines affected by the partial federal government closure from December 22, 2018 through the resumption of operations on January 29, 2019.⁷ If the new deadline falls on a non-business day, in accordance with Commerce's practice, the deadline will become the next business day. On November 19, 2019, we extended the deadline for these final results, until February 7, 2020.⁸

⁷ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁸ See Memorandum, “Finished Carbon Steel Flanges from Spain: Extension of Time Limit for Final Results of Antidumping Duty Administrative Review, 2017-2018,” dated November 18, 2019.

Scope of the Order ⁹

⁹ See Finished Carbon Steel Flanges from Spain: Antidumping Duty Order, 82 FR 27229 (June 14, 2017) (the Order).

The scope of the Order covers finished carbon steel flanges. Finished carbon steel flanges are currently classified under subheadings 7307.91.5010 and 7307.91.5050 of the Harmonized Tariff Schedule of the United States (HTSUS). They may also be entered under HTSUS subheadings 7307.91.5030 and 7307.91.5070. While HTSUS subheadings are provided for convenience and customs purposes, the written description of the scope of this Order is dispositive. A full description of the scope of the Order is contained in the Issues and Decision Memorandum,¹⁰ which is incorporated herein by reference. The Issues and Decision Memorandum is a public document and is on file electronically via Enforcement and Compliance's Antidumping and Countervailing Duty Centralized Electronic Service System (ACCESS). ACCESS is available to registered users at https://access.trade.gov and is available to all parties in the Central Records Unit, Room B8024 of the main Commerce building. In addition, a complete version of the Issues and Decision Memorandum can be accessed directly on the internet at http://enforcement.trade.gov/frn/index.html. The signed Issues and Decision Memorandum and the electronic version of the Issues and Decision Memorandum are identical in content.

¹⁰ See Memorandum, “Issues and Decisions Memorandum for the Final Results of the Antidumping Duty Administrative Review: Finished Carbon Steel Flanges from Spain; 2017-2018,” dated concurrently with this notice (Issues and Decisions Memorandum).

Analysis of Comments Received

All issues raised in the case and rebuttal briefs filed by parties in this review are addressed in the Issues and Decision Memorandum. A list of the issues which parties raised, and to which we respond in the Issues and Decision Memorandum, follows in the appendix to this notice.

Changes Since the Preliminary Results

Based on our analysis of the comments received, and for the reasons explained in the Issues and Decision Memorandum, Commerce made no changes in methodology to the Preliminary Results. However, based on our analysis of the comments received, and for the reasons explained in the Issues and Decision Memorandum, we made certain changes to ULMA's margin calculation.

Final Results of Administrative Review

For these final results, we determine that the following weighted-average dumping margins exist for the period February 8, 2017 through May 31, 2018:

Exporter/manufacturer | Weighted- average dumping margin (percent)
ULMA Forja, S.Coop | 4.47
Grupo Cunado | 4.47
Tubacero, S.L | 4.47
Ateaciones De Metales Sinterizados S.A | 4.47
Transglory S.A | 4.47
Central Y Almacenes | 4.47

Rate for Non-Selected Respondents

For the rate for non-selected respondents in an administrative review, generally, Commerce looks to section 735(c)(5) of the Act, which provides instructions for calculating the all-others rate in a market economy investigation. Under section 735(c)(5)(A) of the Act, the all-others rate is normally “an amount equal to the weighted-average of the estimated weighted-average dumping margins established for exporters and producers individually investigated, excluding any zero or de minimis margins, and any margins determined entirely {on the basis of facts available}.” In this segment of the proceeding, we calculated a margin for ULMA that was not zero, de minimis, or based on facts available. Accordingly, we have applied the margin calculated for ULMA to the non-individually examined respondents.

Assessment

Commerce shall determine and U.S. Customs and Border Protection (CBP) shall assess antidumping duties on all appropriate entries. Commerce will instruct CBP to apply an ad valorem assessment rate of 4.47 percent to all entries of subject merchandise during the POR which were produced and/or exported by ULMA. Commerce will also instruct CBP to apply an ad valorem assessment rate of 4.47 percent to all entries of subject merchandise during the POR which were produced and/or exported by Grupo Cunado, Tubacero, S.L., Ateaciones De Metales Sinterizados S.A., Transglory S.A., and Central Y Almacenes. We intend to issue assessment instructions directly to CBP 15 days after publication of the final results of this review.

Cash Deposit Requirements

The following deposit requirements for estimated antidumping duties will be effective upon publication of the notice of these final results of review for all shipments of flanges from Spain entered, or withdrawn from warehouse, for consumption on or after the date of publication as provided by section 751(a)(2) of the Act: (1) The cash deposit rate for ULMA, Grupo Cunado, Tubacero, S.L., Ateaciones De Metales Sinterizados S.A., Transglory S.A., and Central Y Almacenes, will be 4.47 percent; (2) for merchandise exported by producers or exporters not covered in this review but covered in a prior segment of the proceeding, the cash deposit rate will continue to be the company-specific rate published for the most recent period; (3) if the exporter is not a firm covered in this review, a prior review, or the original investigation but the producer is, then the cash deposit rate will be the rate established for the most recent period for the producer of the merchandise; (4) the cash deposit rate for all other producers or exporters will continue to be 18.81 percent,¹¹ the all-others rate established in the less-than-fair-value investigation. These cash deposit requirements shall remain in effect until further notice.

¹¹ See the Order, 82 FR 27229.

Notification to Importers

This notice serves as a final reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties occurred and the subsequent assessment of doubled antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

Notification to Interested Parties

We are issuing and publishing notice of these final results in accordance with sections 751(a)(1) and 777(i)(1) of the Act and 19 CFR 351.213(h).

Dated: February 6, 2020.
Jeffrey I. Kessler,
Assistant Secretary for Enforcement and Compliance.

Appendix

List of Topics Discussed in the Issues and Decision Memorandum

I. Summary

II. Background

III. Scope of the Order

IV. Discussion of the Issues

Comment 1: Scrap Offset

Comment 2: Cost Reconciliation Difference

Comment 3: Reconversion Income

Comment 4: Programming Adjustments

V. Recommendation

[FR Doc. 2020-02777 Filed 2-11-20; 8:45 am]

BILLING CODE 3510-DS-P